FEDERAL COMMUNICATIONS COMMISSION

47 CFR Parts 76 and 78

[CS Docket No. 00-78; FCC 00-165]

Implementation of the Cable Operations and Licensing System (COALS) to Allow for Electronic Filing

AGENCY: Federal Communications Commission.

ACTION: Notice of proposed rulemaking.

SUMMARY: The Federal Communications Commission (FCC) proposes to amend its regulations governing the filing of forms and applications for the Cable Services Bureau. These proposed rule changes are designed to facilitate the FCC's implementation of the Cable Operations and Licensing Systems (COALS), a new electronic filing system. The Notice constitutes part of the FCC's ongoing review of its regulations consistent with the biennial review process mandated by Section 11 of the Communications Act. COALS will enable all cable services applicants, licensees and registrants to file electronically, thus increasing the speed and efficiency of the application and filing process. COALS will also make license and cable operational information more accessible to Commission staff and will enhance the availability of cable system information to the cable industry and the public.

DATES: Comments are due on or before September 6, 2000 and reply comments are due on or before September 21, 2000. Written comments by the public on the proposed information collections are due September 6, 2000. Written comments must be submitted by the Office of Management and Budget (OMB) on the proposed information collections on or before October 6, 2000.

ADDRESSES: Federal Communications Commission, 445 Twelfth Street, SW, Washington, DC 20554. In addition to filing comments with the Secretary, a copy of any comments on the information collections contained herein should be submitted to Judy Boley, Federal Communications Commission, Room 1-C804, 445 Twelfth Street, SW, Washington, DC 20554, or via the Internet to jboley@fcc.gov, and to Edward Springer, OMB Desk Officer, 10236 NEOB, 725—17th Street, NW, Washington, DC 20503 or via the Internet to springer e@al.eop.gov.

FOR FURTHER INFORMATION, CONTACT: Wayne McKee (202)418-2355 or Richard Kalb (202)418-1055, Cable Services Bureau, or via the internet at wmckee@fcc.gov. or rkalb@fcc.gov. For additional information concerning the information collections contained in this NPRM contact Judy Boley at 202-418-0214, or via the Internet at jboley@fcc.gov.

SUPPLEMENTARY INFORMATION: This is a synopsis of the Commission's Notice of Proposed Rulemaking, CS Docket 00-78, adopted May 11, 2000 and released May 23, 2000. The full text of this decision is available for inspection and copying during normal business hours in the FCC Reference Center (Room 239), 1919 M Street, NW, Washington, DC 20554, and may be purchased from the Commission's copy contractor, International Transcription Service, (202) 857-3800, 1231 20th Street, NW, Washington, DC 20036, or may be reviewed via the internet at http://www.fcc.gov/csb.

Synopsis of the Notice of Proposed Rule Making

I. Introduction

1. In this Notice of Proposed Rulemaking (“NPRM”), we seek comment on our proposal to revise the rules governing the filing of forms and applications for the Cable Services Bureau (“CSB”). These include applications in the Cable Television Relay Service (CARS microwave applications), cable television operator registrations, and aeronautical frequency usage filings. These proposed rule changes are designed to facilitate our implementation of the Cable Operations and Licensing Systems (“COALS”)—a new electronic filing system. This Notice constitutes part of our ongoing review of the Commission's regulations consistent with the biennial review process mandated by Section 11 of the Communications Act.

2. COALS will enable all cable services applicants, licensees, and registrants (hereinafter referred to as “electronic filers”), for the first time, to file all license-related applications and other filings electronically, thus increasing the speed and efficiency of the application and filing process.

3. COALS will also make license and cable operational information more accessible and more usable by Commission staff in carrying out our regulatory responsibilities. This will enable the Commission staff to monitor spectrum use and competitive conditions in the cable marketplace more easily and will promote more effective implementation of our spectrum management policies.

4. COALS will also enhance the availability of cable system information to the cable industry and the public. They will be able to access all cable system information by using any World Wide Web browser. These changes will benefit not only Commission licensees, but also members of the public that have historically had little or no access to such information. COALS will also allow persons seeking to obtain licensing information to search our database and retrieve the desired information via COALS. This will be more cost-effective than obtaining copies of Commission records manually from the Commission's copy contractor or the Commission's public reference rooms. Commission orders, public notices, and other releases will be available on the Internet without charge.

5. In addition, the cost of filing applications or obtaining information will be reduced. Applicants will be charged normal filing fees for filing applications under COALS, but will save time and resources by filing electronically.

6. This NPRM reviews our current rules regarding information filed with the Commission, and proposes modifications only where necessary to fully implement COALS. Our objective in implementing COALS is to reduce costs to the Commission, cable operators, and the public by making the filing and review process faster and simpler.

7. Many of the rule changes proposed in this NPRM are merely procedural in nature. Section 553(b)(3)(A) of the Administrative Procedures Act provides an exception from notice and comment requirements for procedural rules. However, as a result of the development of COALS, we are proposing fundamental and extensive changes to the way we receive and process license applications, cable community registrations, aeronautical notifications and Forms 320 and 325. The changes needed to introduce COALS and to effectuate electronic filing and processing of most applications and notifications are sufficiently extensive that we believe it desirable to seek public comment on the full impact these changes may have on cable filers and the public. We provide notice and seek comment because we propose to change the data collection and management mechanisms, use a universal database to prepare, analyze, and report statistics, and use these proposals to form the basis for future rulemakings, compliance actions and other Commission initiatives.

8. In this NPRM, we seek comment on the following issues and proposals:

• whether we should require mandatory or optional electronic filing;

• how the CSB's application and licensing forms can be modified to make filing less burdensome;

• consolidating, and in some cases revising, the rules that determine whether a change to a pending CARS application or existing authorization is major or minor;

• amending return and dismissal procedures for defective or incomplete applications;

• standardizing the collection of information from cable applicants and licensees;

• requiring the submission of a Taxpayer Identification Number (“TIN”) or its functional equivalent by applicants and licensees using COALS, consistent with the requirements of the Debt Collection Improvement Act of 1996; and

• eliminating unnecessary or duplicative filing and notice requirements.

A. Electronic Filing

1. Mandatory or Electronic Filing

9. Background. COALS gives us the capability to accept cable related forms and notifications electronically. A number of other processes within the Commission have already moved to electronic filing systems, and the Commission's policies have consistently encouraged electronic filing. The public has also requested that the Commission implement electronic filing of information wherever feasible to facilitate more user-friendly queries of Commission data. As a consequence, the Commission has recently sought comment on various changes to the rules that are intended to eliminate unnecessary filing and reporting requirements. In those proceedings, a number of commenters suggested that the Commission introduce electronic filing systems.

10. Discussion. With the introduction of COALS, we will have the ability to accept electronic filing of most regularly collected forms used by the Cable Services Bureau. We tentatively propose that during the second quarter of the year 2000, cable operators filing forms, applications, registrations, and notifications in the Cable Services Bureau have the option of filing electronically. We believe that allowing optional electronic filing for cable services is in the public interest because it will help to accomplish our goals of: (1) A smooth transition to COALS; (2) continual streamlining of our filing process; (3) affording parties a quick and economical means to file applications and other documents; and (4) making all filed information quickly and easily available to interested parties and the public. We believe that the effect of this option on applicants and licensees in cable services would be beneficial; indeed, COALS is intended to relieve the burden on all filers of the time and cost of paper filings. We request comment on these proposals.

11. While we propose to allow optional electronic filing for cable services, we seek comment on whether electronic filing should be made mandatory. We propose allowing optional filing because we recognize that those affected by our decision will be a diverse group, ranging from very small to very large entities. We recognize that some applicants may not have access to computers with the hardware and capability to utilize the software necessary to submit their applications electronically. Conversely, requiring electronic filing may eliminate possible confusion in a dual filing system and expedite our transition to COALS.

12. Accordingly, we seek comment on whether electronic filing should be made optional or mandatory. Commenters advocating mandatory electronic filing should propose a timetable for the transition to such filing.

13. Section 508 of the Rehabilitation Act of 1973, as amended, requires federal agencies to make materials available in accessible formats for persons with disabilities. Commenters may address ways to make COALS more accessible to individuals with disabilities in light of this obligation.

14. Finally, we request comment on whether it would benefit applicants, licensees, and registrants subject to electronic filing if the Commission maintained computer facilities at the Washington, DC headquarters for the public to use to file forms electronically. Commenters should discuss the resources needed to support this, e.g., the number of computers necessary for public use. We note, however, that any facility (e.g. public libraries, universities, “Internet cafes,” etc.) that has Internet access capabilities can be used for COALS electronic filings. It is our intention to make electronic filing as widely valuable and successful as possible, and we request public input for further suggestions to meet this goal.

2. Electronic Payment

15. Background. Current Commission rules generally require applications or filings that require a fee be sent to the Commission's lockbox bank in Pittsburgh, Pennsylvania, with the correct fee and form.

16. Discussion. With implementation of COALS, we propose to allow cable applicants and filers to pay their filing costs electronically or to be sent to the Commission's lock box bank manually.

3. Electronic Signature

17. Background. Current Commission rules require that applicants and licensees provide original hand-written signatures on registrations and applications filed with the Commission.

18. Discussion. In allowing for electronic filing, COALS will allow applicants and licensees to sign filings with the Commission electronically. We propose that an electronic signature shall consist of the name of the applicant transmitted electronically via COALS and entered on the application as a signature. We note that COALS will require pre-registration and that system users will be assigned a system identifier and associated password prior to their use of an electronic signature, as further discussed in paragraph 22.

4. Copy Requirements

19. Background. Current Commission rules require the filing of a specified number of copies of all applications and papers filed with the Commission in order to ensure that appropriate staff have access to the documents and that timely information is provided to the public.

20. Discussion. In this proceeding, we propose to eliminate the current copy requirements that are no longer necessary. We tentatively conclude that reducing the number of copies that parties have to file would serve the public interest because such requirements are unnecessary under COALS. In the past, multiple copies were required to make application and licensing information available to the public and to Commission employees. COALS, however, provides an unprecedented degree of accessibility to this information. Whether applications or pleadings are filed electronically or manually, all information will be available online to interested parties and to the Commission's staff. After implementation of COALS, any data that are filed manually will be entered or scanned as necessary and will be available in the same fashion as electronically filed information. Thus, there will no longer be a need for an applicant to file numerous paper copies. We propose to amend our rules so that applicants who file applications electronically will not be required to provide paper copies. We see comment on these proposals and tentative conclusions.

5. Use of Taxpayer Identification Numbers

21. Background. In 1996, Congress enacted the Debt Collection Improvement Act (“DCIA”) as part of an effort to increase collection of delinquent government debts from private entities. As a result of DCIA, the Commission and executive agencies are required to monitor and provide information about their regulatees to the U.S. Treasury. This provision includes a requirement that the Commission collect Taxpayer Identifying Numbers (“TIN”) and share them with the U.S. Treasury to ensure that the Commission does not refund monies to entities that have an outstanding debt to the federal government. TINs are 9-digit identifiers required of all individuals and employers to identify their tax accounts. Individuals use their Social Security Number as the TIN, while employers use the Employer Identification Number (“EIN”) issued by the IRS to all employers. TINs are an integral part of the DCIA system and are necessary for the collection of delinquent debt owed to federal agencies. The TIN matches payment request with delinquent information. As a result, federal agencies have been required to share the TINs of benefit recipients since April 26, 1996, the effective date of DCIA. The Financial Management Service of the U.S. Treasury has recommended that agencies obtain the TIN when an agency first has direct contact with a person.

22. Discussion. The Commission has already taken steps to ensure proper collection of TINs from parties seeking to make filings using COALS. Development of COALS will require that we continue to collect TINs from CSB applicants and licensees because some of these parties may be the recipients of a refund for overpayment of filing and/or regulatory fees or auction bids.

23. We further propose that all parties seeking to file applications through COALS be required to submit a TIN as a prerequisite for using the system, for purposes of fee payment verification, and subsequently, that filers be issued a COALS system identifier and associated password for access to the electronic system. Under this proposal, individuals would use their Social Security Number as their TIN, while other entities would use their EINs as their TIN. Parties submitting manually filed forms and applications will continue to be required to supply their TIN on forms and applications, where applicable, because all such information will be placed on COALS and a TIN is necessary to track these applications.

24. We also note that the TIN is part of the required information for current manual and proposed electronic filers as identifiers for cable filing purposes, and is therefore available to the general public searching records. For example, the cable television registration statement requires a social security or entity identification number, either of which can be a TIN. Accordingly, this number will be available to those accessing a particular registration statement. We seek comment on whether a TIN number, for privacy and other reasons, should not be available to those searching the database electronically, even though the number will be available to those searching through the same records which may have been filed manually.

25. We note that under the proposal, parties other than cable operators and CARS licensees would have some access to COALS without providing a TIN. For example, parties seeking to find information electronically through COALS would not be required to submit a TIN, but rather would be permitted to access COALS using a general search criteria defined by COALS. Members of the public also would not be required to register to simply view applications or search the COALS database. We seek comment on whether requiring the use of TINs with the COALS systems would satisfy the requirements of the DCIA and would provide a unique identifier for parties filing applications with COALS that would ensure that the system functions properly. We tentatively conclude that the TIN is the logical choice for the system identifier because it is unique to each licensee and applicant, and these parties will likely have already obtained a TIN from the Internal Revenue Service in order to conduct their business. However, we note that it is still to be determined whether the TIN will be used as the COALS login.

B. Cable Services Bureau Operational Procedures

1. New Forms

26. Background. Currently, cable operators are required to file a registration statement with the Commission, which includes their legal name, mailing address and other operator information. Any change to the operator's legal name, mailing address or operational status must also be filed with the Commission. The operator is given the choice as to the format for the submission of this information, as no FCC forms for the provision of this information currently exist.

27. Discussion. We propose to create three new forms for the registration process. The first new form, FCC Form-xxx, will formalize and standardize the format for the cable television registration statement. At the same time, we propose to eliminate the requirement that the Commission give public notice of cable television registration statements. It has been our experience that registration statement public notices are not generally used to track registration data and do not generate public comment. Further, we propose to eliminate the requirement that 47 CFR 76.12 registrants disclose the date upon which they served 50 or more subscribers. This requirement no longer has a regulatory purpose. The second new form, FCC Form-xxx, will formalize and standardize the format when a cable operator has a change in name, mailing address or operational status. The third form, FCC Form-xxx, will formalize and standardize the manner in which cable operators provide information to the Commission regarding usage of aeronautical frequencies. Under 47 CFR 76.615(b)(6), operators are required to provide a description of their routine monitoring procedures used for compliance with the aeronautical frequency usage rules. To facilitate electronic filing and review, we propose to allow operators to check a box in Form-xxx which certifies that their monitoring procedures fully comply with the requirements of § 76.614 of the Commission's rules. As a whole, these forms will facilitate electronic filing by creating a uniform format by which all cable operators provide their information, making it easier for Commission personnel to process the filings. In addition, we propose to modify FCC Form 327, used for applications in the Cable Television Relay Service, by revising Schedule C to eliminate redundant channeling and source information that are no longer required and transferring transmission tower information from the transmit D schedule (previously D[00]) to the C schedule. Furthermore, we intend to modify the Form 327 to conform with other electronically filed forms currently in use within the Commission and to eliminate requested information that is no longer necessary. We seek comment on this proposal.

2. Returns and Dismissals of Incomplete or Defective Submissions

28. Background. Currently, filing with the Commission involves the completion of a form and forwarding the completed application to the Commission. When incomplete or incorrectly filed forms or applications are received, the applicant is either contacted by phone or mail to correct the problem, or the submission is returned in accordance with CSB policies. The COALS filing system will reduce filing errors resulting from incomplete filings. For example, COALS will pre-fill ownership and address information for applicants who are already Commission licensees. It will also interactively check that required elements of applications are completed and prompt applicants to correct errors. We anticipate that this system will expedite the grant of applications and help to ensure the integrity of the data in our licensing database.

29. There will be two means for parties to electronically file applications with the Commission: batch and interactive. Batch filing involves data transmission in a single action, without any interaction with the Commission's COALS system. Batch filers will follow a set Commission format for entering data. Batch filers will then send, via file transfer protocol, batches of data to the Commission for compiling. COALS will compile such filings overnight and respond the next business day with a return or dismissal of any defective filings. Thus, batch filers will not receive immediate correction from the system as they enter the information. Interactive filing involves data transmission with screen-by-screen prompting from the Commission's COALS system. Interactive filers will receive prompts from the system identifying data entries outside the acceptable ranges of data for the individual fields at the time the data entry is made. Because interactive filers will be able to enter corrected information in real time, they are less likely to submit applications that are incomplete or incorrect.

30. Discussion. We propose to conform our filing rules for all CSB filers so that batch, interactive, and, where applicable, manual filers will be subject to the same requirements and procedures for defective or incomplete submissions. Interactively filed submissions will be screened in real time by the COALS system; therefore, errors will be unlikely but may occur in some instances where erroneous information is entered. In the case of batch and manually filed submissions, incomplete or erroneous filings will not be detected until after the submission is filed. Manually filed submissions, if erroneous, will not be returned until the CSB staff reviews the submission and detects the problem. In all cases, regardless of filing method, except as indicated below, we propose that a filer who submits a filing that is accepted by COALS, but is found subsequently to have missing or incorrect information, be notified of the defect. We seek comment on allowing operators 30 days from the date of this notification to correct or amend the submission if the amendment is minor. If the applicant files a timely corrected application, it will ordinarily be processed as a minor amendment in accordance with the Commission's rules. Thus it will have no effect on the initial filing date of the application or the applicant's filing priority. If, however, the amendment made by the applicant is not a simple correction but constitutes a major amendment to the application, it will be governed by the rules and procedures applicable to major amendments, i.e., it will be treated as a new application with a new filing date. Finally, if the applicant fails to submit an amended application within the period specified in the notification, the application will be subject to dismissal for failure to prosecute. Notwithstanding the above, we propose that in all cases, submissions without a sufficient fee and manually filed applications that do not contain a valid signature will be immediately dismissed. We seek comment on these proposals.

C. Cable Services Bureau Licensing Procedures (CARS and Microwave Licenses)

1. Standardization of Major and Minor Filing Rules

31. Background. Under current CARS rules, the standards for distinguishing between major and minor filings, particularly amendments to applications and modifications of licenses, are defined under § 78.109 of the Commission's rules. The distinction between major and minor filings has significant procedural consequences in the application process, because a major amendment to an application causes the application to be considered newly filed, while a minor amendment generally has no impact on the filing date. Distinguishing between major and minor modifications to license applications is important, because major modifications are subject to the same public notice requirement as initial applications. Minor modifications, by contrast, do not trigger public notice obligations and, on occasion, do not require prior Commission approval.

32. Discussion. The implementation of COALS provides a unique opportunity to implement a single set of uniform standards for defining major and minor amendments and modifications of all CARS licenses. The Commission is authorized to adopt rules classifying amendments as either major or minor. Therefore we propose to adopt a single rule, as set out below, that defines categories of major and minor changes for purposes of defining whether an amendment to an application or request for license modification is major or minor. We are not, however, proposing to revise the types of applications which require public notice or frequency coordination.

MAJOR

Based on the above criteria, we tentatively conclude that the following changes should be considered major:

• Any increase in emission bandwidth beyond that authorized;

• Any change in the transmitting antenna system of a station, other than a CARS pickup station, including the direction of the main radiation lobe, directive pattern antenna gain or transmission line;

• Any horizontal change in the location of the antenna, other than a CARS pickup station transmitter;

• Any change in the type of modulation;

• Any change in the location of a station transmitter, other than a CARS pickup station transmitter, except a move within the same building or upon the tower or mast or a change in the area of operation of a CARS pickup station;

• Any change in frequency assignment including polarization;

• Any change in authorized operating power;

• Any substantial change in ownership or control;

• Any addition or change in frequency, excluding removing a frequency;

• Any request for partitioning or disaggregation;

• Any modification or amendment requiring an environmental assessment (as governed by 47 CFR 1.1301-1319);

• Any request requiring frequency coordination; or

• Any modification or amendment requiring notification to the Federal Aviation Administration as defined in 47 CFR part 17 subpart B.

MINOR

We tentatively conclude that any change not specifically listed above as major should be considered minor. This would include:

• Any name change not involving change in ownership or control of the license;

• Changes to administrative information, e.g., address, telephone number, or contact person.

33. We further propose to allow licensees to implement minor technical or physical modifications to their facilities without prior Commission approval; licensees would be required only to notify the Commission within 30 days of implementing the change. However, we note that there are times that applicants and licensees may submit multiple amendments or modifications that individually would be considered minor changes, but that, when considered together, would constitute a major change. In this connection, we propose that multiple minor changes be considered a major change to the extent that their cumulative effects relative to the original authorization or the last major change exceed the threshold(s) set forth above as major changes. We seek comment on this proposal. Commenters should address the standard we should adopt to alert applicants and licensees that multiple minor amendments or modifications will be considered a major change.

2. Filing of Pleadings Associated with Applications

34. Background. Currently, § 1.49 of the Commission's rules allows pleadings and documents filed in most Commission proceeding to be filed electronically.

35. Discussion. Once COALS is implemented, we intend to enhance COALS to allow pleadings and informal requests for Commission actions associated with applications or licenses in cable services to be filed electronically. Such pleadings include petitions to deny, petitions for reconsideration, applications for review, comments, motions for extension of time, and subsequently filed pleadings related to such filings (i.e., oppositions and replies). We expect such an enhancement to COALS to be forthcoming and that the system will be able to accept pleadings prepared in several popular software formats. In anticipation of such an enhancement, we propose to allow electronic filing of pleadings regarding CARS applications as an option, rather than a requirement. As a procedural example, electronic filers will be queried regarding which application is at issue. This query will enable us to easily associate pleadings with related applications and make the pleadings accessible to the public. In addition, parties submitting pleadings via COALS will continue to be required to service paper copies on all interested parties. We propose to allow electronic service where the party to be served consents in advance in their pleadings. We propose that when a party has agreed to electronic service of a document, the three-day mailing rule for computation of time purposes is inappropriate, and that service will be considered the same as facsimile service. We seek comment on this proposal.

3. Letter Requests

36. Background. The Commission's rules currently permit CARS licensees to request certain actions by letter instead of with a formal application filing. Each year CSB receives hundreds of letter requests, which must be processed manually. In addition, Section 308(a) of the Communications Act states that formal applications are not required during national emergencies or under other exceptional circumstances (“Special Situations”)

37. Discussion. We seek comment on requiring requests relating to licenses or applications to be filed using COALS forms rather than continuing to accept and process letter requests. Commenters should address whether we should eliminate letter filings for applications, modifications, renewals, amendments, extensions, cancellations, special temporary authorizations, and name and address changes, except for the Special Situations set forth in Section 308(a) of the Communications Act. We note that our forms are widely available to the public on the FCC's web page and through a fax-on-demand service, and their use should be far less burdensome for the public than drafting a letter request. Parties can call 1-202-418-0177 from the handset of any fax machine and follow the recorded instructions. Using a form instead of a letter will also enable Commission staff to handle requests more quickly and accurately. We also note that even if manually filed with the Commission, COALS forms are more likely than a letter to be sent directly to the appropriate Bureau and division for processing. In addition, many requests for minor modifications could, if filed on a form, be automatically granted, thus relieving the Commission of a significant processing burden. Nonetheless, we are mindful that it may be unduly burdensome for some licensees to use a specific form rather than a letter to request minor changes to an application or license, such as a change of address. Therefore, interested parties should address whether letter requests should be permitted under certain circumstances, and if so, identify those circumstances.

D. Collection of Licensing and Technical Data

1. Overview

38. In reviewing our processing functions to adapt them to electronic filing, we propose to eliminate some existing data collection requirements and licensing requirements that no longer serve a useful purpose or that can be further streamlined. We seek comment on the types of technical data that we should collect from applicants and licensees, and whether there are particular data collection requirements that should be either added or deleted.

2. Change to North American Datum 83 Coordinate Data

39. Background. To perform its licensing role, CSB requires that certain applicants submit coordinate data with their applications. Where applicable, applicants are required to submit coordinate data using the 1927 North American Datum (“NAD27”) geographical survey. A more recent North American Datum (“NAD83”) was completed in 1983, which provides updated coordinate data. NAD83 was adopted as the official coordinate system for the United States in 1989. On September 1, 1992, we issued a public notice noting the change and stating that we would be converting our databases to NAD83. At that time, however, in order to provide sufficient time to study the changes, we allowed applicants to continue indefinitely to provide coordinate data using NAD 27.

40. Discussion. We tentatively conclude that use of NAD83 will result in more accurate licensing decisions via the COALS system, and will also conform with the current Federal Aviation Administration regulations, which require the use of NAD83 data. In addition, it will conform with the Antenna Structure Registration (“ASR”) system currently in use by the Commission's Wireless Telecommunications Bureau. We propose that all cable services submissions be required to provide such data using the NAD83 datum for sites located in the continental United States, Puerto Rico, the U.S. Virgin Islands, Alaska, Hawaii, Guam, American Samoa, and offshore sites adjacent to these areas (e.g., the Gulf of Mexico) to be expressed in terms of latitude and longitude referenced to NAD83. Sites located in the Northern Mariana Islands, Midway Island, and Wake Island should continue to be referenced to the applicable local datum. This exception for the Pacific insular areas is necessary because NAD83 is not applicable to these areas. We seek comment on our tentative conclusion and proposal.

II. Conclusion

41. We have set forth proposals to allow COALS to function more efficiently. A more efficient and fully functional COALS will mean that licensing information will be widely available to members of the public. We also believe that development of full electronic filing and widely available databases for the cable services will shorten application filing times for applicants, make the most recent data available to them concerning cable operators and other spectrum uses, and relieve the administrative burden on this Commission, enabling us to operate with greater efficiency. Accordingly, we tentatively conclude that it is in the public interest to implement the electronic filing of applications and other documents, and that COALS implementation, as well as the combined application and processing rules proposed herein, will help achieve that goal.

III. Procedural Matters

A. Initial Regulatory Flexibility Analysis

42. As required by Section 603 of the Regulatory Flexibility Act, 5 U.S.C. 603, the Commission is incorporating an Initial Regulatory Flexibility Analysis (“IRFA”) of the expected impact on small entities of the policies and proposals in this NPRM. Written public comments concerning the effect of the proposal in the NPRM, including the IRFA, on small businesses are requested. Comments must be identified as responses to the IRFA and must be filed by the deadlines for the submission of comments in this proceeding. The Commission's Consumer Information Bureau, Reference Information Center, shall send a copy of the NPRM, including the IRFA, to the Chief Counsel for Advocacy of the Small Business Administration in accordance with paragraph 603(a) of the Regulatory Flexibility Act.

43. Need for Action and Objective of the Proposed Rule Change. We undertake this proceeding to facilitate implementation of the COALS electronic filing system, so that cable services applicants and associated parties may file documents with greater speed and efficiency. The system will also make license and cable operational information more accessible to the Commission's staff, as well as the cable industry and the general public.

44. Legal Basis. The authority for the action proposed for the rulemaking is contained in section 4(i) and 303(r) of the Communications Act of 1934, as amended.

45. Description and Estimate of the Number of Small Entities Impacted. The IRFA directs agencies to provide a description of and, where feasible, an estimate of the number of small entities that will be affected by the proposed rules, if adopted. The RFA defines the term “small entity” as having the same meaning as the terms “small business,” “small organization,” and “small business concern” under Section 3 of the Small Business Act. Under the Small Business Act, a small business concern is one which: (1) is independently owned and operated; (2) is not dominant in its field of operation; and (3) satisfies any additional criteria established by the Small Business Administration.

46. The Commission has developed its own definition of a “small cable company” and “small system” for the purpose of rate regulation. Under the Commission's rules, a “small cable company” is one serving fewer than 400,000 subscribers nationwide. Based on our most recent information, we estimate that there were 1,439 cable companies that qualified as small cable companies at the end of 1995. Since then, some of those companies may have grown to serve over 400,000 subscribers, and other may have been involved in transactions that caused them to be combined with other cable companies. Consequently, we estimate that there are fewer than 1, 439 small entity cable companies that may be affected by the proposed rules changes in the Notice. The Commission's rules also define a “small system,” for the purposes of cable rate regulation, as a cable system with 15,000 or fewer subscribers. We do not request nor do we collect information concerning cable systems serving 15,000 or fewer subscribers and thus are unable to estimate at this time the number of small cable systems nationwide.

47. The Communications Act also contains a definition of a “small cable operator,” which is “a cable operator that, directly or through an affiliate, serves in the aggregate fewer than 1 percent of all subscribers in the United States and is not affiliated with any entity or entities whose gross annual revenues in the aggregate exceed $250,000,000.” The Commission has determined that there are 61,700,000 subscribers in the United States. Therefore, we found that an operator serving fewer than 617,000 subscribers is deemed a small operator, if its annual revenues, when combined with the total annual revenues of all of its affiliates, do not exceed $250 million in the aggregate. Based on available data, we find that the number of cable operators serving 617,000 subscribers or less totals 1,450. Although it seems certain that some of these cable system operators are affiliated with entities whose gross annual revenues exceed $250,000,000, we are unable at this time to estimate with greater precision the number of cable system operators that would qualify as small cable operators under the definition in the Communications Act.

48. Description of Projected Reporting, Recordkeeping, and other Compliance Requirements: The Commission is proposing to reduce the burdens of certain reporting or information collection requirements.

49. Steps Taken To Minimize Significant Economic Impact on Small Entities, and Significant Alternatives Considered: The RFA requires an agency to describe any significant alternatives that it has considered in reaching its proposed approach, which may include the following four alternatives: (1) the establishment of differing compliance or reporting requirements or timetables that take into account the resources available to small entities; (2) the clarification, consolidation, or simplification of compliance or reporting requirements under the rule for small entities; (3) the use of performance, rather than design, standards; and (4) an exemption from coverage of the rule, or any part thereof, for small entities. The Notice solicits comments on all alternatives to organize the electronic filing system. Any significant alternatives presented in the comments will be considered. In addition, we seek comment on whether electronic filing should be made optional or mandatory. For additional discussion of the effect on small business, see paragraphs 9 through 14. Small entities are encouraged to comment on this proposed rule change.

50. Federal Rules that May Overlap, Duplicate, or Conflict with the Proposed Rules: None.

B. Ex Parte

51. This is a non-restricted notice and comment rule making proceeding. Ex parte presentations are permitted, provided they are disclosed as provided in the Commission's Rules. See generally 47 CFR 1.1202, 1.1203 and 1.1206(a).

C. Filing of Comments and Reply Comments

52. Pursuant to applicable procedures set forth in §§ 1.415 and 1.419 of the Commission's rules, interested parties may file comments on or before [date]and reply comments on or before [Date]. All relevant and timely comments will be considered before final action is taken in this proceeeding. Comments may be filed using the Commission's Electronic Comment Filing System (ECFS) or by filing paper copies. See Electronic Filing of Documents in Rulemaking Proceedings, 63 FR 24,121 (1998).

53. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply.

54. To file formally in this proceeding, participants must file an original and four copies of all comments, reply comments, and supporting comments. If more than one docket or rulemaking number appear in the caption of this proceeding, commenters must submit two additional copies for each additional docket or rulemaking number. If participants want each Commissioner to receive a personal copy of their comments, an original plus nine copies must be filed. Comments and reply comments should be sent to the Commission's Secretary, Magalie Roman Salas, Office of the Secretary, Federal Communications Commission, 445 Twelfth Street, S.W., TW-A325, Washington, D.C. 20554. Comments and reply comments will be available for public inspection during regular business hours in the FCC Reference Center (Room 239) of the Federal Communications Commission, 1919 M Street, N.W., Washington, D.C. 20554.

Initial Paperwork Reduction Act of 1995 Analysis

This NPRM contains either a proposed or modified information collection. As part of its continuing effort to reduce paperwork burdens, we invite the general public and the Office of Management and Budget to take this opportunity to comment on the information collections contained in this NPRM, as required by the Paperwork Reduction Act of 1995, Public Law No. 104-13. Public and agency comments are due at the same time as other comments on this NPRM; OMB comments are due 60 days from date of publication of this NPRM in the Federal Register. Comments should address: (a) whether the proposed collection of information is necessary for the proper performance of the function of the Commission, including whether the information shall have practical utility; (b) the accuracy of the Commission's burden estimates; (c) ways to enhance the quality, utility, and clarity of the information collected; and (d) ways to minimize the burden of the collection of information on the respondents, including the use of automated collection techniques or other forms of information technology.

Federal Communications Commission.
Magalie Roman Salas,
Secretary.

[FR Doc. 00-19895 Filed 8-4-00; 8:45 am]

BILLING CODE 6712-01-P